FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Hanjin Transportation Company Limited, 21th Fl. Marine Center 118, Namdaemunro, 2-GA, Jung-GU, Seoul Korea, Officers: Ki Young Lee, Secretary, (Qualifying Individual) Won Young Lee, CEO

America Pak Agency, Inc., 3111 Waters Way Drive, Sugar Land, TX 77478. Officer: Jun Kang Ping, President, (Qualifying Individual)

S.R. International, Inc. dba Sea-Road International, Inc., 5300 W. 83rd Street, Los Angeles, CA 90045. Officers: Lindsey Hwang, Secretary, (Qualifying Individual), Han K. Kim, CEO

Hi-Tek Moving, Inc. dba Hi Tek Transportation, 16928 S. Main Street, Gardenia, CA 90248. Officers: Byung In Kwak, Secretary, (Qualifying Individual) Sang H. Cho, President

Non-Vessel—Operating Common Carrier and Ocean Freight Forwarder Transportation Intermediary Applicants: Speedway Transport Inc., 731 S. Garfield Avenue, Suite #B, Alhambra, CA 91801. Officers:Scott S.F. Wang, President, (Qualifying Individual) Darren T.J. Hsu, Director

Princess Cargo, 140 E. Spring Street, #7, Long Beach, CA 90806. Officers: Odon Manalo Belen, Vice President, (Qualifying Individual) Ellen Flores Belen, President

Ocean Freight Forwarder—Ocean Transportation Intermediary Applicants:

A Arnold World Class Relocation, 5200 Interchange Way, Louisville, KY 40229. Officers: Douglas Finke, President, (Qualifying Individual) Richard Russell, Manager

Unipak Global Relocation, Inc., 5355 Avenida Encinas, Suite 106, Carlsbad, CA 92008. Officers: Christoper Ramey, Asst. Vice President, (Qualifying Individual) James Kinyon, President

Berklay Air Services, 181 East Jamaica Avenue, Valley Stream, NY 11580. Officers: Greg Klainberg, Manager Exports, (Qualifying Individual) Bernard Klainberg, CEO

Dated: December 16, 2005.
Bryant L. VanBrakle,
Secretary.

[FR Doc. E5-7618 Filed 12-20-05; 8:45 am]

BILLING CODE 6730-01-P